FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than July 2, 2020.

A. Federal Reserve Bank of St. Louis (David L. Hubbard, Senior Manager) P.O. Box 442, St. Louis, Missouri 63166-2034. Comments can also be sent electronically to Comments.applications@stls.frb.org:

1. ACE Investments, LLC, Newburg, Missouri; Aaron C. Espinoza, individually and as owner of Ace Investments LLC, also of Newburg, Missouri; Kyle Espinoza, Nashville, Tennessee; the Charles G. Bollinger Revocable Trust, the Velma Bollinger Marital Trust, Charles G. Bollinger, as trustee of both trusts, all of Hernando, Florida; and Faith Limited Partnership, Charles G. Bollinger, as general partner; as a group acting in concert to acquire voting shares of Newburg Insurance Agency, Inc., and thereby indirectly acquire voting shares of Citizens Bank of Newburg, both of Rolla, Missouri.

Board of Governors of the Federal Reserve System, June 12, 2020.
Yao-Chin Chao,
Assistant Secretary of the Board.

[FR Doc. 2020-13052 Filed 6-16-20; 8:45 am]

BILLING CODE P